DEPARTMENT OF DEFENSE

Department of the Army

Privacy Act of 1974; System of Records

AGENCY: Department of the Army, DoD.

ACTION: Notice to amend systems of records.

SUMMARY: The Department of the Army is amending a system of records notice in its existing inventory of records systems subject to the Privacy Act of 1974, as amended.

DATES: This proposed action will be effective without further notice on October 4, 2001, unless comments are received which result in a contrary determination.

ADDRESSES: Records Management Division, U.S. Army Records Management and Declassification Agency, ATTN: TAPC-PDD-RP, Stop 5603, 6000 6th Street, Ft. Belvoir, VA 22060-5603.

FOR FURTHER INFORMATION CONTACT: Ms. Janice Thornton at (703) 806-4390 or DSN 656-4390 or Ms. Christie King at (703) 806-3711 or ESN 656-3711.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552), as amended, which requires the submission of a new or altered system report.

August 28, 2001.
L.M. Bynum,
Alternate OSD Federal Register Liaison Officer, Department of Defense.

A0215 CFSC

System Name:

General Morale, Welfare, Recreation and Entertainment Records (May 18, 1998, 63 FR 27269).

Changes:

* * * * *

Categories of records in the system:

Delete entry and replace with ‘Name, address, and other pertinent information of members, participants, patrons, and other authorized users. Other ancillary information such as travel vouchers, security check results and orders will be kept in the system. Bingo, pay-out control sheet indicating individual name, grade, Social Security Number, duty station, dates and amount of bingo winnings paid, and Internal Revenue Forms W2-G, Certain Gambling Winnings and 5754, Statement by Person(s) Receiving Gambling Winnings.’

Authority for maintenance of the system:

Delete entry and replace with ‘10 U.S.C. 3013, Secretary of the Army; 26 U.S.C. 6041, Information at Source; Army Regulation 215-1, Morale Welfare, and Recreation Activities and Non-appropriated Fund Instrumentalities; DoD Instruction 1015.2 Military Morale, Welfare and Recreation (MWR) and E.O. 9397 (SSN).’

* * * * *

Retrievability:

Delete entry and replace with ‘By name and Social Security Number.’

* * * * *

A0215 CFSC

System Name:

General Morale, Welfare, Recreation and Entertainment Records.

System Location:

Major Army commands, field operating agencies, installations and activities, Army-wide. Official mailing addresses are published as an appendix to the Army's compilation of systems of records notices.

Categories of individuals covered by the system:

Military personnel, their families, other members of the military community, certain DoD civilian employees and their families overseas, certain military personnel of foreign nations and their families, personnel authorized to use Army-sponsored Morale, Welfare, Recreation (MWR) services, youth services, athletic and recreational services, Armed Forces Recreation Centers, Army recreation machines, and/or to participate in MWR-type activities, to include bingo games; professional entertainment groups recognized by the Armed Forces Entertainment; Army athletic team members; ticket holders of athletic events; units of national youth groups such as Boy Scouts, Girl Scouts, and 4-H Clubs.

Categories of records in the system:

Name, address, and other pertinent information of members, participants, patrons, and other authorized users. Other ancillary information such as travel vouchers, security check results and orders will be kept in the system. Bingo, pay-out control sheet indicating individual name, grade, Social Security Number, duty station, dates and amount of bingo winnings paid, and Internal Revenue Forms W2-G and 5754, (Gambling Winnings and Statement by Person(s) Receiving Gambling Winnings, respectively).

Authority for maintenance of the system:

10 U.S.C. 3013, Secretary of the Army; 26 U.S.C. 6041, Information at Source; Army Regulation 215-1, Morale Welfare, and Recreation Activities and Non-appropriated Fund Instrumentalities; DoD Instruction 1015.2, Military Morale, Welfare and Recreation (MWR); and E.O. 9397 (SSN).

Purpose(s):

To administer programs devoted to the mental and physical well-being of Army personnel and other authorized users; to document the approval and conduct of specific contests, shows, entertainment programs, sports activities/competitions, and other MWR-type activities and events sponsored or sanctioned by the Army.

Information will be used to market and promote similar MWR type activities conducted by other DoD organizations.

To provide a means of paying, recording, accounting reporting, and controlling expenditures and merchandise inventories associated with bingo games.

Routine uses of records maintained in system, including categories of users and the purposes of such uses:

In addition to those disclosures generally permitted under 5 U.S.C. 552a(b) of the Privacy Act, these records or information contained therein may specifically be disclosed outside the DoD as a routine use pursuant to 5 U.S.C. 552(b)(3) as follows:

To the Internal Revenue Service to report all monies and items of merchandise paid to winners of games whose one-time winnings are $1,200 or more.

The DOD ‘Blanket Routine Uses’ set forth at the beginning of the Army's compilation of systems of records notices also apply to this system:

Policies and practices for storing, retrieving, accessing, retaining, and disposing of records in the system:

Storage:

Paper records in file folders, cards, magnetic tapes, discs, computer printouts, and electronic storage media.

Retrievability:

By name and Social Security Number.

Safeguards:

Records are kept in buildings secured during non-duty hours and accessed by only designated persons having official need therefor.

Retention and Disposal:

Bingo records are maintained on-site for four years and then shipped to a Federal Records Center for storage for an additional three years. After seven years, records are destroyed. All other documents as destroyed after 2 years, unless required for current operation.

System Manager(s) and Address:

Commander, U.S. Army Community and Family Support Center, 4700 King Street, Alexandria, VA 22302-4414.

Notification Procedure:

Individuals seeking to determine whether information about themselves is contained in this system should address written inquiries to the Director of Community Activities at the installation or activity where assigned.

Individuals must provide name, rank, Social Security Number, proof of identification, and any other pertinent information necessary.

Record Access Procedures:

Individuals seeking access to information about themselves contained in this system should address written inquiries to the Director of Community Activities at the installation of activity where assigned.

Individuals must provide name, rank, Social Security Number, proof of identification, and any other pertinent information necessary.

Contesting record procedures:

The Army's rules for accessing records, and for contesting contents and appealing initial agency determinations are contained in Army Regulation 340-21; 32 CFR part 505; or may be obtained from the system manager.

Record Source Categories:

From the individual or group receiving the service and bingo pay-out control sheets.

Exemptions claimed for the system:

None.

[FR Doc. 01-22111 Filed 8-31-01; 8:45 am]

BILLING CODE 5001-08-M